DEPARTMENT OF ENERGY

Federal Energy Regulatory Commission

Combined Notice of Filings

Take notice that the Commission has received the following Natural Gas Pipeline Rate and Refund Report filings:

Filings Instituting Proceedings

Docket Numbers: RP24-993-000.

Applicants: Equitrans, L.P.

Description: Compliance filing: Big Dog Energy Suspension and Termination Request to be effective N/A.

Filed Date: 8/27/24.

Accession Number: 20240827-5163.

Comment Date: 5 p.m. ET 9/9/24.

Docket Numbers: RP24-994-000.

Applicants: Midcontinent Express Pipeline LLC.

Description: § 4(d) Rate Filing: MEP Negotiated Rate Agreement Amendment Filing (Trafigura & Mercuria) to be effective 9/1/2024.

Filed Date: 8/27/24.

Accession Number: 20240827-5174.

Comment Date: 5 p.m. ET 9/9/24.

Docket Numbers: RP24-995-000.

Applicants: Texas Eastern Transmission, LP.

Description: § 4(d) Rate Filing: Negotiated Rates—CNX contract 911219 to be effective 9/1/2024.

Filed Date: 8/27/24.

Accession Number: 20240827-5191.

Comment Date: 5 p.m. ET 9/9/24.

Docket Numbers: RP24-996-000.

Applicants: Natural Gas Pipeline Company of America LLC.

Description: § 4(d) Rate Filing: Amendment to a Negotiated Rate Agreement Filing—Sabine Pass Liquefaction, LLC to be effective 9/1/2024.

Filed Date: 8/28/24.

Accession Number: 20240828-5000.

Comment Date: 5 p.m. ET 9/9/24.

Docket Numbers: RP24-997-000.

Applicants: Panhandle Eastern Pipe Line Company, LP.

Description: § 4(d) Rate Filing: Off-System Capacity Tariff Provision to be effective 9/28/2024.

Filed Date: 8/28/24.

Accession Number: 20240828-5028.

Comment Date: 5 p.m. ET 9/9/24.

Docket Numbers: RP24-998-000.

Applicants: Columbia Gas Transmission, LLC.

Description: § 4(d) Rate Filing: VEP—CGV NR Amendment 255792-2 to be effective 9/1/2024.

Filed Date: 8/28/24.

Accession Number: 20240828-5032.

Comment Date: 5 p.m. ET 9/9/24.

Docket Numbers: RP24-999-000.

Applicants: El Paso Natural Gas Company, L.L.C.

Description: § 4(d) Rate Filing: Negotiated Rate Agreements Update (Pioneer Oct-Dec 2024) to be effective 10/1/2024.

Filed Date: 8/28/24.

Accession Number: 20240828-5048.

Comment Date: 5 p.m. ET 9/9/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 28, 2024.
Debbie-Anne A. Reese,
Acting Secretary.

[FR Doc. 2024-19886 Filed 9-4-24; 8:45 am]

BILLING CODE 6717-01-P